OFFICE OF THE UNITED STATES TRADE REPRESENTATIVE

Implementation of Tariff-Rate Quota for Imports of Beef

AGENCY: Office of the United States Trade Representative.

ACTION: Correction of Notice.

SUMMARY: The Office of the United States Trade Representative (USTR) is providing notice that USTR has determined that effective January 1, 2001, all imports of beef from New Zealand will need to be accompanied by an export certificate in order to qualify for the in-quota tariff rate. The exception to this certificate requirement for exports made prior to January 1, 2001, announced in the Federal Register on October 26, 2000, is hereby eliminated.

DATES: The action is effective December 4, 2000.

FOR FURTHER INFORMATION CONTACT: Suchada Langley, Senior Economist for Agricultural Affairs, Office of the United States Trade Representative, 600 17th Street NW, Washington, DC 20508; telephone: (202) 395-6127.

SUPPLEMENTARY INFORMATION: The United States maintains a tariff-rate quota on imports of beef as part of its implementation of the Marrakesh Agreement Establishing the World Trade Organization. The in-quota quantity of that tariff-rate quota is allocated in part among a number of countries. As part of the administration of that tariff-rate quota, USTR provided, in 15 CFR part 2012, for the use of export certificates with respect to imports of beef from countries that have an allocation of the in-quota quantity. The export certificates apply only to those countries that USTR determines are participating countries for purposes of 15 CFR part 2012.

On September 26, 2000, USTR received a request and the necessary supporting information from the government of New Zealand to be considered as a participating country for purposes of the export certification program. Accordingly, USTR has determined that, effective January 1, 2001, New Zealand is a participating country for purposes of 15 CFR part 2012. As a result, USTR published a notice on October 26, 2000 stating that effective on and after January 1, 2001, imports of beef from New Zealand will need to be accompanied by an export certificate in order to qualify for the in-quota tariff rate, but that imports exported from New Zealand prior to January 1, 2001, including exports currently warehoused, will not require an export certificate.

Since the publication of the October 26, 2000 notice, USTR has determined in consultation with the United States Department of Agriculture and New Zealand that given existing circumstances, including the imminent fill of the beef tariff quota for the current quota year, exemption of exports made prior to January 1, 2001, from the export certificate requirement for imports entered into the United States after January 1, 2001, is not necessary. Accordingly, the October 26, 2000 notice is hereby revised to provide that effective on January 1, 2001, imports of beef from New Zealand will need to be accompanied by an export certificate in order to qualify for the in-quota tariff rate. There will be no exceptions made for exports of beef from New Zealand made prior to January 1, 2001.

Charlene Barshefsky,
United States Trade Representative.

[FR Doc. 00-30782 Filed 12-1-00; 8:45 am]

BILLING CODE 3190-01-M